DEPARTMENT OF HEALTH AND HUMAN SERVICES

Health Resources and Services Administration

Notice of Non-competitive Replacement Award

AGENCY: Health Resources and Services Administration, HHS.

ACTION: Notice of Non-competitive Replacement Award.

SUMMARY: The Health Resources and Services Administration (HRSA) is issuing a temporary non-competitive replacement award to the National Jewish Hospital and Research Center to avoid disruption and continue outreach, medical screening and referral services to former uranium mine workers and individuals in the states of Colorado, Wyoming and portions of Southeastern Utah exposed to radioactive fallout during prior testing of nuclear weapons.

SUPPLEMENTARY INFORMATION: Intended Recipient of the Award: National Jewish Hospital and Research Center in Denver, Colorado.

Amount of the Award: $120,106.00 (an 8-month supplement, January 1, 2009, through August 31, 2009) to ensure ongoing services to the target populations.

Project Period: The period of supplemental support is from January 1, 2009, to August 31, 2009.

Authority: This activity is under the authority of the Public Health Service Act, Section 417C of Public Law 106-245.

Catalogue of Federal Domestic Assistance Number: 93.257

Justication for the Exception to Competition: Critical funding for outreach, medical screening and referral services to the target populations in Colorado, Wyoming and portions of Southeastern Utah will be continued through a temporary, non-competitive replacement award to the National Jewish Hospital and Research Center (NJHRC) as the new recipient. This temporary award is needed because the former grantee, St. Mary's Hospital and Medical Center, relinquished, effective December 31, 2008, the original award (project period September 1, 2008, through August 31, 2011). NJHRC, nationally known as the “Center for Research and Treatment of Respiratory Conditions,” is uniquely qualified to provide screening and diagnosis of occupationally related radiogenic diseases for the target populations. NJHRC has administered the HRSA-funded Black Lung Clinic Program (BLCP) grant for the past five years and is well suited to undertake operations of the Radiation Exposure Screening and Education Program under the previously approved scope of project. Additionally, this organization has a thorough understanding of the characteristics and needs of miners (both current and retired) as well as other workers at risk for occupational diseases. HRSA's Office of Rural Health Policy is not aware of any other organization that could provide such treatment and services to the impacted service populations without additional time and resources being devoted to bringing that organization's service capacity up to the level needed under the project scope of this award.

This temporary non-competitive replacement award will permit the new recipient to ensure continuity of services to the affected populations. The supplemental funding will provide support for 8 months. Further funding beyond August 31, 2009, for this service area will be provided through a limited service area competition to be announced in the near future.

FOR FURTHER INFORMATION CONTACT: Tom Morris, Associate Administrator, Office of Rural Health Policy, Health Resources and Services Administration, 5600 Fishers Lane, Rockville, MD 20857; phone 301-443-0835; tmorris@hrsa.hhs.gov.

Dated: April 9, 2009.
Marcia K. Brand,
Deputy Administrator.

[FR Doc. E9-8442 Filed 4-13-09; 8:45 am]

BILLING CODE 4165-15-P